DEPARTMENT OF COMMERCE

National Oceanic and Atmospheric Administration

[I.D. 051605B]

Endangered Species; Permit No. 1486

AGENCY: National Marine Fisheries Service (NMFS), National Oceanic and Atmospheric Administration (NOAA), Commerce.

ACTION: Notice; issuance of permit modification.

SUMMARY: Notice is hereby given that Harold M. Brundage has been issued a modification to scientific research Permit No. 1486.

ADDRESSES: The modification and related documents are available for review upon written request or by appointment in the following offices:

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9328; fax (978)281-9394.

FOR FURTHER INFORMATION CONTACT: Shane Guan or Tammy Adams, (301)713-2289.

SUPPLEMENTARY INFORMATION: On September 23, 2004, notice was published in the Federal Register (69 FR 56998) that an modification of Permit No. 1486, issued on December 29, 2004 (69 FR 77998), had been requested by Mr. Brundage. The requested modification has been issued under the authority of the Endangered Species Act of 1973, as amended (ESA; 16 U.S.C. 1531 et seq.) and the regulations governing the taking, importing, and exporting of endangered and threatened species (50 CFR parts 222-226).

Issuance of this modification, as required by the ESA, was based on a finding that such modification (1) Was applied for in good faith, (2) will not operate to the disadvantage of such endangered or threatened species, and (3) is consistent with the purposes and policies set forth in section 2 of the ESA.

Dated: July 10, 2006.
P. Michael Payne,
Chief, Permits, Conservation and Education Division, Office of Protected Resources, National Marine Fisheries Service.

[FR Doc. E6-11133 Filed 7-13-06; 8:45 am]

BILLING CODE 3510-22-S